DEPARTMENT OF LABOR

Employment and Training Administration

[TA-W-73,938]

Management Resources Group, Inc., Including Workers in the States of Georgia and New York Reporting to Southbury, CT; Notice of Revised Determination on Remand

On January 13, 2011, the United States Court of International Trade (USCIT) granted the Department of Labor's request for voluntary remand to conduct further investigation in Former Employees of Management Resources Group, Inc. v. United States Secretary of Labor, Court No. 10-00345.

On April 15, 2010, a State of Connecticut Workforce Office representative filed a petition for Trade Adjustment Assistance (TAA) with the Department of Labor (Department) on behalf of workers and former workers of Management Resources Group, Inc., Southbury, Connecticut (subject firm). Workers at the subject firm (subject worker group) are engaged in employment related to the supply of asset reliability engineering consulting services. The worker group does not include on-site leased workers.

The Department's initial findings revealed that the subject firm did not import services like or directly competitive with the engineering consulting services supplied by the workers, shift the supply of these services abroad, or acquire from a foreign country the supply of these services, during the period under investigation. Further, the Department surveyed the subject firm's major declining customers regarding imports of engineering consulting services during the relevant time period. The survey revealed that none of the customers imported services like or directly competitive with those supplied by the subject firm. Consequently, the Department determined that the group eligibility requirements under Section 222 of the Trade Act, as amended (the Act), had not been met.

On September 16, 2010, the Department issued a Negative Determination regarding eligibility to apply for TAA applicable to workers and former workers of the subject firm. The Department's Notice of Determination was published in the Federal Register on September 29, 2010 (75 FR 60145).

The Department did not receive a request for administrative reconsideration.

In the complaint to the USCIT, the Plaintiffs claimed that subject firm workers were impacted by a shift in services to a foreign country as “[Management Resources Group, Inc.] outsourced work previously done by Plaintiffs to a firm in India * * *.”

On January 11, 2011, the Department requested voluntary remand to conduct further investigation to address the Plaintiffs' allegations, to determine whether the subject worker group is eligible to apply for TAA, and to issue an appropriate determination. On January 13, 2011, the USCIT granted the Department's Motion for Voluntary Remand.

To apply for worker adjustment assistance under Section 222(a) of the Act, 19 U.S.C. 2272(a), the following criteria must be met:

I. The first criterion (set forth in Section 222(a)(1) of the Act, 19 U.S.C. 2272(a)(1)) requires that a significant number or proportion of the workers in the workers' firm must have become totally or partially separated or be threatened with total or partial separation.

II. The second criterion (set forth in Section 222(a)(2) of the Act, 19 U.S.C. 2272(a)(2)) may be satisfied if either:

(i)(I) there has been a shift by the workers' firm to a foreign country in the production of articles or supply of services like or directly competitive with those produced/supplied by the workers' firm; OR

(i)(II) there has been an acquisition from a foreign country by the workers' firm of articles/services that are like or directly competitive with those produced/supplied by the workers' firm.

III. The third criterion requires that the shift/acquisition must have contributed importantly to the workers' separation or threat of separation. See Section 222(a)(2)(B)(ii) of the Act, 19 U.S.C. 2272(a)(2)(B)(ii).

The intent of the Department is for a certification to cover all workers of the subject firm, or appropriate subdivision, who were adversely affected by increased imports of services like or directly competitive with those supplied by the subject worker group or a shift to or acquisition from a foreign country of the service supplied by the workers, based on the investigation of the TAA petition.

During the remand investigation, the Department carefully reviewed previously submitted information, obtained additional information from the subject firm, and solicited input from the Plaintiffs.

Based on the information collected during the remand investigation, the Department determined that a significant number or proportion of the workers at the subject firm was totally or partially separated, or threatened with such separation. Further, the Department determined that workers in the Inventory Services Group, which performs activities related to Maintenance, Repair, and Operations, were impacted by a shift in the supply of services abroad and that the shift contributed importantly to worker separations at the subject firm. The functions of the other groups within the subject firm also support activities related to supply of asset reliability engineering consulting services, and are included under this petition.

Specifically, during the period under investigation, the subject firm shifted to India the supply of services like or directly competitive with those supplied by the Inventory Services Group. Information collected revealed evidence of a foreign contract in conjunction with declines in domestic employment.

The subject worker group includes all workers at the Southbury, Connecticut location and employees who worked remotely in the States of Georgia and New York and reported to Southbury, Connecticut during the relevant time period. The subject worker group does not include on-site leased workers.

After careful review on remand, the Department has determined that a significant number or proportion of the workers at the subject firm was separated. Further, the Department has determined that a shift abroad of services like or directly competitive with the services supplied by the subject worker group contributed importantly to worker group separations. Therefore, the Department has determined that the group eligibility requirements, under Section 222(a)(2)(B) of the Act, have been met.

Conclusion

After careful review of the facts during the remand investigation, I determine that Management Resources Group, Inc., Southbury, Connecticut, has shifted to a foreign country the supply of services like or directly competitive with the engineering consulting services supplied by the subject worker group. In accordance with the provisions of the Act, I make the following certification:

All workers of Management Resources Group, Inc., Southbury, Connecticut, including workers in Georgia and New York who report to the subject firm, who are engaged in employment related to the supply of asset reliability engineering consulting services and became totally or partially separated from employment on or after April 15, 2008, through two years from the date of this revised certification, and all workers in the group threatened with total or partial separation from employment on date of certification through two years from the date of certification, are eligible to apply for adjustment assistance under Chapter 2 of Title II of the Trade Act of 1974, as amended.

Signed at Washington, DC this 10th day of March 2011.
Del Min Amy Chen,
Certifying Officer, Office of Trade Adjustment Assistance.

[FR Doc. 2011-6803 Filed 3-22-11; 8:45 am]

BILLING CODE 4510-FN-P